FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

AIT Ocean Systems, Inc. (NVO & OFF), 701 N. Rohlwing Road, Itasca, IL 60143, Officers: Hessel B. Verhage, Vice President, (Qualifying Individual), Daniel F. Lisowski, President, Application Type: QI Change.

Alternative Global Logistic, LLC (OFF), 8551 NW. 12th Street, Pembroke Pines, FL 33024, Officers: Sophie H. Soudai, Managing Member, (Qualifying Individual), Svi Soudai, Manager, Application Type: New OFF License.

Armada USA, LLC dba Armada Logistics (NVO), One Marine Plaza, 7701 Marine Road, Suite 209, North Bergen, NJ 07047, Officers: Mustafa Oytun Cakir, Vice President/Secretary/Treasurer/Member, (Qualifying Individual), Kenan Yalavac, President/Managing Member, Application Type: New NVO License.

Bremol, Inc. dba Molcan Freight Forwarding Services (OFF), 13501 SW. 16th Ct., Davie, FL 33325, Officers: Candace M. King, Secretary, (Qualifying Individual), Brenton J. King, President, Application Type: QI Change.

Carlo Shipping International, Inc. dba CSI Logistics (NVO & OFF), 435 Division Street, Elizabeth, NJ 07076, Officer: Carlos E. Feliu, President/Secretary/Treasurer, (Qualifying Individual), Application Type: Trade Name Change.

E and M International Transport, LLC (NVO), 4574 Swilcan Bridge Lane North, Jacksonville, FL 32224, Officer: Mary Brown, Managing Member, (Qualifying Individual), Application Type: New NVO License.

Embarque Tenares Corp. (NVO), 2249 Washington Avenue, Bronx, NY 10457, Officers: Juan A. Luna, President/Treasurer, (Qualifying Individual), Juana Garcia, Vice President/Secretary, Application Type: New NVO License.

F J Cargo Corporation (NVO), 10250 NW. 89th Ave., #10, Medley, FL 33178, Officer: Francisco J. Matos, President/Secretary/Treasurer, (Qualifying Individual), Application Type: New NVO License.

HYC Logistics, Inc. (NVO & OFF), 2600 Thousand Oaks Blvd., Suite 1350, Memphis, TN 38118, Officers: Patrick W. DePriest, Vice President Export Operations, (Qualifying Individual), Uri D. Silver, President, Application Type: QI Change.

Hydra Logistics, Inc. (NVO & OFF), 14205 Westfair West Drive, Houston, TX 77041, Officers: Afif Baltagi, President, (Qualifying Individual), Sarah Namani, Secretary, Application Type: QI Change.

Joy Cargo, Inc. (NVO & OFF), 5353 W. Imperial Hwy., #100 2FL, Los Angeles, CA 90045, Officers: AJ Terral, Vice President, (Qualifying Individual), Doo C. Kim, President/CEO, Application Type: New NVO & OFF License.

Lars Courier, Inc. dba Lars International Freight Forwarders (NVO & OFF), 8244 NW. 14th Street, Miami, FL 33126, Officer: Andres Panesso, President/Treasurer/Secretary, (Qualifying Individual), Application Type: New NVO & OFF License.

Meest-America, Inc. (NVO), 641 Dowd Avenue, Elizabeth, NJ 07201, Officers: Olga Palaychuk, Vice President, (Qualifying Individual), Rostyslav Kisil, President, Application Type: New NVO License.

National Air Cargo, Inc. (OFF), 350 Windward Drive, Orchard Park, NY 14127, Officers: Marc A. Gonzales, Maritime Brokerage Officer, (Qualifying Individual), Christopher J. Alf, Chairman/CEO, Application Type: New OFF License.

Novargo Inc. (NVO), 38 Dogwood Drive, Edison, NJ 08820, Officers: Shalva G. Pirtskhalava, President, (Qualifying Individual), David G. Pirtskhalava, Vice President, Application Type: Business Structure Change.

Pinki Enterprises, Inc. (NVO), 41-11 30th Avenue, #B, Astoria, NY 11103, Officer: Lea Molnar Dujmovic, President/Secretary/Treasurer, (Qualifying Individual), Application Type: New NVO License.

Tigers (USA) Global Logistics, Inc. dba Tigers Ocean Line (NVO & OFF), 145th Avenue & Hook Creek Blvd., Valley Stream, NY 11581, Officers: Mark Bongean, Vice President (Operations), (Qualifying Individual), Sebastian Tshackert, CEO, Application Type: Name Change.

Dated: March 30, 2012.
Rachel E. Dickon,
Assistant Secretary.

[FR Doc. 2012-8122 Filed 4-3-12; 8:45 am]

BILLING CODE 6730-01-P